DEPARTMENT OF HEALTH AND HUMAN SERVICES

National Institutes of Health

National Eye Institute; Amended Notice of Meeting

Notice is hereby given of a change in the meeting of the National Advisory Eye Council, February 12, 2021, 10:00 a.m. to 4:00 p.m., National Eye Institute, National Institutes of Health, 6700 Rockledge Drive, Suite 3400, Bethesda, MD 20892 (Virtual Meeting) which was published in the Federal Register on January 15, 2021, 86 FR 4104.

The notice is being amended to change the end of the open session from 11:30 a.m. to 1:30 p.m. The meeting is partially Closed to the public.

Dated: January 28, 2021.
Melanie J. Pantoja,
Program Analyst, Office of Federal Advisory Committee Policy.

[FR Doc. 2021-02304 Filed 2-3-21; 8:45 am]

BILLING CODE 4140-01-P